DEPARTMENT OF LABOR

Occupational Safety and Health Administration

[Docket No. OSHA-2008-0050]

Longshoring and Marine Terminal Operations; Extension of the Office of Management and Budget's (OMB) Approval of Information Collection (Paperwork) Requirements

AGENCY: Occupational Safety and Health Administration (OSHA), Labor.

ACTION: Request for public comment; correction.

SUMMARY: The Occupational Safety and Health Administration (OSHA) published a document in the Federal Register on December 8, 2008, soliciting public comments concerning its proposal to extend the Office of Management and Budget's (OMB) approval of the information collection requirements specified in OSHA's Standards on Longshoring (29 CFR part 1918) and Marine Terminal Operations (29 CFR part 1917). The document contains an incorrect OMB Control Number.

FOR FURTHER INFORMATION CONTACT: Theda Kenney, Directorate of Standards and Guidance, OSHA, U.S. Department of Labor, Room N-3609, 200 Constitution Avenue, NW., Washington, DC 20210; telephone (202) 693-2222.

Correction

In the Federal Register of December 8, 2008 (73 FR 74527-74528), on page 74528, in the first column under “III. Proposed Actions,” correct the line which reads: OMB Number: 1218-0106 to read: OMB Control Number: 1218-0196.

Authority and Signature

Thomas M. Stohler, Acting Assistant Secretary of Labor for Occupational Safety and Health, directed the preparation of this notice. The authority for this notice is the Paperwork Reduction Act of 1995 (44 U.S.C. 3506 et seq.) and Secretary of Labor's Order No. 5-2007 (72 FR 31159).

Signed at Washington, DC, on December 12, 2008.
Thomas M. Stohler,
Acting Assistant Secretary of Labor for Occupational Safety and Health.

[FR Doc. E8-30064 Filed 12-17-08; 8:45 am]

BILLING CODE 4510-26-P